FEDERAL RESERVE SYSTEM

Proposed Agency Information Collection Activities; Comment Request

AGENCY: Board of Governors of the Federal Reserve System

SUMMARY: Background. On June 15, 1984, the Office of Management and Budget (OMB) delegated to the Board of Governors of the Federal Reserve System (Board) its approval authority under the Paperwork Reduction Act, as per 5 CFR 1320.16, to approve of and assign OMB control numbers to collection of information requests and requirements conducted or sponsored by the Board under conditions set forth in 5 CFR 1320 Appendix A.1. Board-approved collections of information are incorporated into the official OMB inventory of currently approved collections of information. Copies of the OMB 83-Is and supporting statements and approved collection of information instruments are placed into OMB's public docket files. The Federal Reserve may not conduct or sponsor, and the respondent is not required to respond to, an information collection that has been extended, revised, or implemented on or after October 1, 1995, unless it displays a currently valid OMB control number.

Request for comment on information collection proposal

The following information collection, which is being handled under this delegated authority, has received initial Board approval and is hereby published for comment. At the end of the comment period, the proposed information collection, along with an analysis of comments and recommendations received, will be submitted to the Board for final approval under OMB delegated authority. Comments are invited on the following:

a. Whether the proposed collection of information is necessary for the proper performance of the Federal Reserve's functions; including whether the information has practical utility;

b. The accuracy of the Federal Reserve's estimate of the burden of the proposed information collection, including the validity of the methodology and assumptions used;

c. Ways to enhance the quality, utility, and clarity of the information to be collected; and

d. Ways to minimize the burden of information collection on respondents, including through the use of automated collection techniques or other forms of information technology.

DATES: Comments must be submitted on or before January 16, 2007.

ADDRESSES: You may submit comments, identified by FR 2004 (OMB No. 7100-0003), by any of the following methods:

• Agency Web site: http://www.federalreserve.gov. Follow the instructions for submitting comments at http://www.federalreserve.gov/generalinfo/foia/ProposedRegs.cfm.

• Federal eRulemaking Portal: http://www.regulations.gov. Follow the instructions for submitting comments.

• E-mail: regs.comments@federalreserve.gov. Include the OMB control number in the subject line of the message.

• FAX: 202-452-3819 or 202-452-3102.

• Mail: Jennifer J. Johnson, Secretary, Board of Governors of the Federal Reserve System, 20th Street and Constitution Avenue, N.W., Washington, DC 20551.

All public comments are available from the Board's Web site at www.federalreserve.gov/generalinfo/foia/ProposedRegs.cfm as submitted, unless modified for technical reasons. Accordingly, your comments will not be edited to remove any identifying or contact information. Public comments may also be viewed electronically or in paper in Room MP-500 of the Board's Martin Building (20th and C Streets, N.W.) between 9 a.m. and 5 p.m. on weekdays.

FOR FURTHER INFORMATION CONTACT: A copy of the proposed form and instructions, the Paperwork Reduction Act Submission (OMB 83-I), supporting statement, and other documents that will be placed into OMB's public docket files once approved may be requested from the agency clearance officer, whose name appears below.

Michelle Long, Federal Reserve Board Clearance Officer (202-452-3829), Division of Research and Statistics, Board of Governors of the Federal Reserve System, Washington, DC 20551. Telecommunications Device for the Deaf (TDD) users may contact (202-263-4869), Board of Governors of the Federal Reserve System, Washington, DC 20551.

Proposal to approve under OMB delegated authority the extension for three years, with revision, of the following reports:

Report title: The Government Securities Dealers Reports: Weekly Report of Dealer Positions (FR 2004A), Weekly Report of Cumulative Dealer Transactions (FR 2004B), Weekly Report of Dealer Financing and Fails (FR 2004C), Weekly Report of Specific Issues (FR 2004SI), Daily Report of Specific Issues (FR 2004SD), and Daily Report of Dealer Activity in Treasury Financing (FR 2004WI)

Agency form number: FR 2004

OMB control number: 7100-0003

Frequency: Weekly, Daily

Reporters: Primary dealers in the U.S. government securities market

Annual reporting hours: FR 2004A, 1,716 hours; FR 2004B, 2,288 hours; FR 2004C, 1,430 hours; FR 2004SI, 2,288 hours; FR 2004SD, 1,100 hours; FR 2004WI, 3,520 hours

Estimated average hours per response: FR 2004A, 1.5 hours; FR 2004B, 2.0 hours; FR 2004C, 1.25 hours; FR 2004SI, 2.0 hours; FR 2004SD, 2.0 hours; FR 2004WI, 1.0 hour

Number of respondents: 22

General description of report: This information collection is required to obtain or retain a benefit [12 U.S.C. §§ 248(a)(2), 353-359, and 461(c)] and is given confidential treatment [5 U.S.C. §§ 552 (b)(4) and (b)(8)].

Abstract: The FR 2004A collects weekly data on dealers' outright positions in Treasury and other marketable debt securities. The FR 2004B collects cumulative weekly data on the volume of transactions made by dealers in the same instruments for which positions are reported on the FR 2004A. The FR 2004C collects weekly data on the amounts of dealer financing and fails. The FR 2004SI collects weekly data on outright, financing, and fails positions in current or on-the-run issues. Under certain circumstances this information is also collected on a daily basis on the FR 2004SD for on-the-run and off-the-run securities. The FR 2004WI collects daily data on positions in to-be-issued Treasury coupon securities, mainly the trading on a when-issued delivery basis. Data from the FR 2004SI, SD and WI are available to the Interagency Working Group (IAWG), which includes the Department of the Treasury, the Federal Reserve Bank of New York, the Federal Reserve Board, the Securities and Exchange Commission, and the Commodity Futures Trading Commission.

Current actions: The Federal Reserve proposes to revise the FR 2004 information collection by adding an attestation requirement to each of the reporting forms. The addition of this attestation requirement from a senior officer would help ensure that the proper level of review occurs before FR 2004 data are submitted, and help to mitigate the risk of the Federal Reserve publishing misleading data. Since all FR 2004 data are sent electronically through the Internet Electronic Submission (IESUB) system to the Federal Reserve, the proposed signature requirement would be completed weekly and retained with the primary dealer's files. To verify that the proper level of management is attesting to the accuracy of the data, an annual requirement to submit a copy of the attestation to the Federal Reserve for all of the FR 2004 reporting forms is also being proposed. These attestations would be required with the submission of the last as-of date of each year.

In addition, the Federal Reserve proposes to revise the FR 2004SI and FR 2004SD reporting forms by replacing the two counterparty data items “with broker-dealer” and “with all others” with two data items “Specific” and “General” for financing transactions. The greater detail on the type of transaction used to fund a position would provide more useful information than the identity type of the counterparty and would improve the IAWG's ability to conduct Treasury market surveillance.

Board of Governors of the Federal Reserve System, November 13, 2006.
Robert deV. Frierson,
Deputy Secretary of the Board.

[FR Doc. E6-19405 Filed 11-15-06; 8:45 am]

BILLING CODE 6210-01-S